DEPARTMENT OF ENERGY

Federal Energy Regulatory Commission

[Docket No. RP02-330-002]

ANR Pipeline Company; Notice of Compliance Filing

July 12, 2002.

Take notice that on July 1, 2002, ANR Pipeline Company (ANR), tendered for filing as part of its FERC Gas Tariff, Second Revised Volume No. 1, Sub Eighteenth Revised Sheet No. 19. ANR requests that this tariff sheet be made effective August 1, 2002.

ANR states that this tariff sheet is being filed in compliance with the Commission's Order issued on May 31, 2002 in the above referenced docket. ANR Pipeline Company, 99 FERC ¶ 61, 240 (2002) (“May 31st Order”). The May 31st Order required that ANR establish a separately stated charge for lost and unaccounted for gas on ANR's Link Lateral.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18097 Filed 7-17-02; 8:45 am]

BILLING CODE 6717-01-P